DEPARTMENT OF ENERGY

Federal Energy Regulatory Commission

Notice of Application and Soliciting Comments, Motions To Intervene, and Protests

July 3, 2006.

Take notice that the following application has been filed with the Commission and is available for public inspection:

a. Application Type: Shoreline Management Plan.

b. Project No.: 2030-073.

c. Date Filed: June 8, 2006.

d. Applicant: Portland General Electric Company and the Confederated Tribes of the Warm Springs Reservation of Oregon (CTWS).

e. Name of Project: Pelton Round Butte Hydroelectric Project.

f. Location: The project is located on the Deschutes River in Jefferson County, Oregon. The project occupies 3,503.74 acres of Federal and tribal lands administered by the U.S. Forest Service (USFS), U.S. Bureau of Land Management (BLM), and U.S. Bureau of Indian Affairs (BIA).

g. Filed Pursuant to: Federal Power Act, 16 U.S.C. 791(a)-825(r).

h. Applicant Contact: Ms. Julie A. Keil, Director of Hydro Licensing, Portland General Electric Company, 121 SW Salmon, Portland, OR 97204, (503) 464-8864.

i. FERC Contact: Any questions on this notice should be addressed to Lesley Kordella at (202) 502-6406, or by e-mail: lesley.kordella@ferc.gov.

j. Deadline for filing comments and /or motions: July 31, 2006.

All documents (original and eight copies) should be filed with: Ms. Magalie R. Salas, Secretary, Federal Energy Regulatory Commission, DHAC, PJ-12.1, 888 First Street, NE., Washington DC 20426. Please include the project number (2030-073) on any comments or motions filed. Comments, protests and interventions may be filed electronically via the Internet in lieu of paper. See, 18 CFR 385.2001(a)(1)(iii) and the instructions on the Commission's Web site under the “e-Filing” link. The Commission strongly encourages electronic filings.

k. Description of Proposal: The licensees submitted a Shoreline Management Plan (SMP) as required by article 428. The SMP was developed in consultation with the CTWS Branch of Natural Resources, USFS, BLM, BIA, Oregon Department of Fish and Wildlife, Oregon Parks and Recreation Department, and Jefferson County, in order to guide development and resource protection on the shorelines of Lake Billy Chinook and Lake Simtustus. It is intended to provide a tool to manage shoreline developments to protect public health and safety, while allowing efficient management of the project. The SMP addresses issues relating to natural resources, recreation and public access, and guidance for new shoreline development, installation of new docks, and modifications to existing docks.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E6-10805 Filed 7-10-06; 8:45 am]

BILLING CODE 6717-01-P